DEPARTMENT OF JUSTICE

Notice of Proposed Consent Decree and Proposed Order on Consent Under The Clean Water Act

Notice is hereby given that, on May 12, 2010, a proposed Consent Decree in United States and State of New York v. City of Oswego, New York, Civil Action No. 5:10-cv-554, was lodged with the United States District Court for the Northern District of New York.

The proposed Consent Decree will settle the United States' claims on behalf of the U.S. Environmental Protection Agency (“EPA”) for violations of Section 301(a) of the CWA, 33 U.S.C. 1311(a), in connection with unpermitted discharges from the City's west side sewer system and failure to comply with a National Pollutant Discharge Elimination System (“NPDES”) permit. The State of New York joined the United States as co-plaintiff, pursuant to Section 309(e) of the CWA, 33 U.S.C. 1319(e), and the New York State Environmental Conservation Law (“ECL”), Sections 17-0701 and 17-0803. The Consent Decree resolves all claims in the Complaint, in return for payment by the City of a civil penalty of $99,000, to be split evenly between the United States and the State, and performance by the City of corrective actions valued at $87 million.

The Department of Justice will receive comments relating to the proposed Consent Decree for a period of 30 days from the date of this publication. Comments on the Consent Decree should be addressed to the Assistant Attorney General, Environment and Natural Resources Division, and either e-mailed to pubcomment-ees.enrd@usdoj.gov or mailed to P.O. Box 7611, U.S. Department of Justice, Washington, DC 20044-7611, and should refer to United States and State of New York v. City of Oswego, New York, Civil Action No. 5:10-cv-554 (N.D.N.Y.), D.J. Ref. No. 90-5-1-1-08609.

The proposed Consent Decree may be examined at the Office of the United States Attorney, Northern District of New York, 100 South Clinton Street, Syracuse, New York 13261, and at EPA, Region 2, 290 Broadway, New York, New York 10007-1866. During the public comment period, the proposed Consent Decree may also be examined on the following Department of Justice Web site: http://www.usdoj.gov/enrd/Consent_Decrees.html. A copy of the proposed Consent Decree may also be obtained by mail from the Consent Decree Library, P.O. Box 7611, U.S. Department of Justice, Washington, DC 20044-7611 or by faxing or e-mailing a request to Tonia Fleetwood (tonia.fleetwood@usdoj.gov), fax number (202) 514-0097, phone number (202) 514-1547. If requesting a copy by mail from the Consent Decree Library, please enclose a check in the amount of $18.50 ($0.25 per page reproduction cost) payable to the United States Treasury or, if requesting by e-mail or fax, forward the check in that amount to the Consent Decree Library at the address stated above. If requesting a copy exclusive of appendices, please enclose a check in the amount of $16.00 ($0.25 per page reproduction cost) payable to the United States Treasury.

Maureen Katz,
Assistant Chief, Environmental Enforcement Section, Environment and Natural Resources Division.

[FR Doc. 2010-11948 Filed 5-18-10; 8:45 am]

BILLING CODE 4410-15-P